DEPARTMENT OF ENERGY

Federal Energy Regulatory Commission

Combined Notice of Filings #1

Take notice that the Commission received the following electric corporate filings:

Docket Numbers: EC18-32-000.

Applicants: Jurisdictional Regional Equipment Sharing.

Description: Joint Application under Section 203 of the Federal Power Act for Pre-Authorization of the Jurisdictional Regional Equipment Sharing for Transmission Outage Restoration Participants.

Filed Date: 12/13/17.

Accession Number: 20171213-5233.

Comments Due: 5 p.m. ET 1/3/18.

Docket Numbers: EC18-33-000.

Applicants: Imperial Valley Solar 3, LLC.

Description: Application under Section 203 of the Federal Power Act of Imperial Valley Solar 3, LLC.

Filed Date: 12/14/17.

Accession Number: 20171214-5095.

Comments Due: 5 p.m. ET 1/4/18.

Take notice that the Commission received the following electric rate filings:

Docket Numbers: ER16-233-001.

Applicants: Illinois Power Resources Generating, LLC.

Description: Compliance filing: Informational Filing Regarding Upstream Change in Control to be effective N/A.

Filed Date: 12/14/17.

Accession Number: 20171214-5125.

Comments Due: 5 p.m. ET 1/4/18.

Docket Numbers: ER16-2566-003.

Applicants: Dynegy Midwest Generation, LLC.

Description: Compliance filing: Informational Filing Regarding Upstream Change in Control to be effective N/A.

Filed Date: 12/14/17.

Accession Number: 20171214-5109.

Comments Due: 5 p.m. ET 1/4/18.

Docket Numbers: ER17-1648-002.

Applicants: Illinois Power Generating Company.

Description: Compliance filing: Informational Filing Regarding Upstream Change in Control to be effective N/A.

Filed Date: 12/14/17.

Accession Number: 20171214-5116.

Comments Due: 5 p.m. ET 1/4/18.

Docket Numbers: ER18-387-001.

Applicants: ISO New England Inc., Emera Maine.

Description: Tariff Amendment: Errata Filing of Original Service Agreement under Schedule 21-EM to be effective 1/1/2016.

Filed Date: 12/13/17.

Accession Number: 20171213-5165.

Comments Due: 5 p.m. ET 1/3/18.

Docket Numbers: ER18-440-000.

Applicants: Southwest Power Pool, Inc.

Description: § 205(d) Rate Filing: 1977R10 Nemaha-Marshall Electric Cooperative NITSA NOA to be effective 12/1/2017.

Filed Date: 12/13/17.

Accession Number: 20171213-5214.

Comments Due: 5 p.m. ET 1/3/18.

Docket Numbers: ER18-441-000.

Applicants: Public Service Company of Oklahoma.

Description: § 205(d) Rate Filing: PSO-AEPOTC-WFEC Roosevelt-Steed DPA to be effective 12/4/2017.

Filed Date: 12/14/17.

Accession Number: 20171214-5042.

Comments Due: 5 p.m. ET 1/4/18.

Docket Numbers: ER18-442-000.

Applicants: Midcontinent Independent System Operator, Inc., Missouri River Energy Services.

Description: Request to Implement the 50 Basis Point RTO Membership Adder For Five Members of Missouri River Energy Services of Midcontinent Independent System Operator, Inc., et. al.

Filed Date: 12/14/17.

Accession Number: 20171214-5097.

Comments Due: 5 p.m. ET 1/4/18.

Docket Numbers: ER18-443-000.

Applicants: PJM Interconnection, L.L.C.

Description: § 205(d) Rate Filing: Amendment to ISA, Service Agreement No. 4527; Queue No. AA1-145 to be effective 8/10/2016.

Filed Date: 12/14/17.

Accession Number: 20171214-5104.

Comments Due: 5 p.m. ET 1/4/18.

Docket Numbers: ER18-444-000.

Applicants: Florida Power & Light Company.

Description: § 205(d) Rate Filing: FPL Amendment No. 4 to Rate Schedule No. 74 to be effective 2/13/2018.

Filed Date: 12/14/17.

Accession Number: 20171214-5105.

Comments Due: 5 p.m. ET 1/4/18.

Docket Numbers: ER18-445-000.

Applicants: Entergy Services, Inc.

Description: § 205(d) Rate Filing: Entergy Services, Inc., Amended Service Agreements to be effective 2/12/2018.

Filed Date: 12/14/17.

Accession Number: 20171214-5107.

Comments Due: 5 p.m. ET 1/4/18.

Docket Numbers: ER18-446-000.

Applicants: AmerenEnergy Medina Valley Cogen, L.L.C.

Description: Tariff Cancellation: Notice of Cancellation of MBR Tariff to be effective 2/12/2018.

Filed Date: 12/14/17.

Accession Number: 20171214-5113.

Comments Due: 5 p.m. ET 1/4/18.

Docket Numbers: ER18-447-000.

Applicants: PacifiCorp.

Description: § 205(d) Rate Filing: Provo City Operating Agreement Rev 1 to be effective 11/27/2017.

Filed Date: 12/14/17.

Accession Number: 20171214-5120.

Comments Due: 5 p.m. ET 1/4/18.

Docket Numbers: ER18-448-000.

Applicants: Southern California Edison Company.

Description: § 205(d) Rate Filing: LGIA Willow Springs Solar 3 Project SA No 206 to be effective 12/15/2017.

Filed Date: 12/14/17.

Accession Number: 20171214-5139.

Comments Due: 5 p.m. ET 1/4/18.

Docket Numbers: ER18-449-000.

Applicants: Southern California Edison Company.

Description: § 205(d) Rate Filing: Third Amendment LGIA Avalon Hybrid Project SA No 154 to be effective 11/30/2017.

Filed Date: 12/14/17.

Accession Number: 20171214-5140.

Comments Due: 5 p.m. ET 1/4/18.

Docket Numbers: ER18-450-000.

Applicants: Midcontinent Independent System Operator, Inc.

Description: § 205(d) Rate Filing: 2017-12-14_MISO-PJM JOA Clean up Revisions to be effective 6/28/2017.

Filed Date: 12/14/17.

Accession Number: 20171214-5144.

Comments Due: 5 p.m. ET 1/4/18.

Docket Numbers: ER18-451-000.

Applicants: Dynegy Kendall Energy, LLC.

Description: Compliance filing: Informational Filing Regarding Upstream Change in Control to be effective 12/31/9998.

Filed Date: 12/14/17.

Accession Number: 20171214-5149.

Comments Due: 5 p.m. ET 1/4/18.

Docket Numbers: ER18-452-000.

Applicants: Liberty Electric Power, LLC.

Description: Compliance filing: Informational Filing Regarding Upstream Change in Control to be effective 12/31/9998.

Filed Date: 12/14/17.

Accession Number: 20171214-5150.

Comments Due: 5 p.m. ET 1/4/18.

Docket Numbers: ER18-453-000.

Applicants: Ontelaunee Power Operating Company, LLC.

Description: Compliance filing: Informational Filing Regarding Upstream Change in Control to be effective 12/31/9998.

Filed Date: 12/14/17.

Accession Number: 20171214-5151.

Comments Due: 5 p.m. ET 1/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2017.
Nathaniel J. Davis, Sr.,
Deputy Secretary.

[FR Doc. 2017-27373 Filed 12-19-17; 8:45 am]

BILLING CODE 6717-01-P